DEPARTMENT OF COMMERCE

National Oceanic and Atmospheric Administration

[I.D. 071504B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Assistant Regional Administrator for Sustainable Fisheries, Northeast Region, NMFS (Assistant Regional Administrator), has determined that an application for EFPs contains all of the required information and warrants further consideration. The Assistant Regional Administrator is considering the impacts of the activities to be authorized under the EFPs with respect to the Northeast (NE) Multispecies Fishery Management Plan (FMP). However, further review and consultation may be necessary before a final determination is made to issue EFPs. Therefore, NMFS announces that the Assistant Regional Administrator proposes to issue EFPs in response to an application submitted by the Cape Cod Commercial Hook Fisherman's Association (CCCHFA), in collaboration with Research, Environmental and Management Support (REMSA). These EFPs would allow up to seven vessels to fish for haddock and pollock using jigged hand gear in two Northeast (NE) multispecies year-round closed areas. Fishing would occur in Georges Bank (GB) Closed Area I (CA I) during the months of July through December 2004, and January, February, May and June 2005 and in Nantucket Lightship Closed Area (NLSCA) during the months of November and December 2004, and May and June 2005. The purpose of this study is to test the viability of jigged hand gear (handline, rod and reel, and jigging machines) to harvest haddock and pollock with minimal cod bycatch within spatial and temporal parameters determined by local historical knowledge.

DATES: Comments on this action must be received at the appropriate address or fax number (see ADDRESSES) on or before August 5, 2004.

ADDRESSES: Written comments should be sent to Patricia A. Kurkul, Regional Administrator, NMFS, NE Regional Office, 1 Blackburn Drive, Gloucester, MA 01930. Mark the outside of the envelope “Comments on Haddock/Pollock Jigging EFP Proposal.” Comments may also be sent via fax to (978) 281-9135, or submitted via e-mail to the following address: da541@noaa.gov.

Copies of the Environmental Assessment (EA) are available from the NE Regional Office at the same address.

FOR FURTHER INFORMATION CONTACT: Catherine Tadema-Wielandt at 978-281-9218 or catherine.tadema-wielandt@noaa.gov.

SUPPLEMENTARY INFORMATION:

Background

Three year-round closed areas were established in 1994 under Amendment 5 to the FMP to provide protection to concentrations of regulated NE multispecies, particularly Atlantic cod, haddock, and yellowtail flounder. These closure areas, CA I, CA II, and the NLSCA, have proven to be effective in improving the stock status of several species, including GB haddock.

In their EFP application, the applicants state that cod are less available than haddock and pollock during certain times and in certain portions of CA I and NLSCA, and propose to support this observation with scientific data, potentially enabling the GB haddock and pollock resources to be utilized without impacting the management program that protects GB cod. This proposal builds on an ongoing study that began on October 1, 2003, and that proposes to continue through September 2004. Preliminary results from this study demonstrate the viability of utilizing hook-and-line gear to reduce bycatch of cod in a portion of GB CA I. The CCCHFA's most recent study proposal differs in that it proposes to test jigged hook-and-line gear (handline, rod and reel, and jigging machines), as opposed to stationary longlines, to target pollock in addition to haddock, and to conduct the study in all of CA I and in NLSCA.

Proposed EFP

The proposed study would occur within CA I during the months of July through December 2004, and January, February, May and June 2005 during which eight half-day trips would occur monthly, for a total of 80 half-day trips in this area. The proposed study would occur within NLSCA during the months of November and December 2004, and May and June 2005 during which four 1-day trips would occur monthly, for a total of 16 1-day trips in this area. In total, 96 trips would occur under this EFP.

Participating vessels would be required to use A days-at-sea (DAS) and would be prohibited from fishing in areas outside of CA I or NLSCA during an experimental fishing trip. Therefore, granting these EFPs should not result in an increase in fishing mortality over what was analyzed for Amendment 13 to the FMP. This study would follow normal jig fishing practices. A total allowable catch (TAC) of 10.0 mt for GB cod would be established for the experimental fishery. If the GB cod TAC is reached, the experimental fishery would be terminated. All fish landed would be subject to trip limits and minimum size restrictions.

REMSA scientists would collect biological and environmental data during each trip conducted under this experimental fishery. The EFPs would contain a provision that the Administrator, Northeast Region, NMFS (Regional Administrator) has the authority to discontinue the proposed experimental fishery at any time, e.g., the Regional Administrator would terminate the EFP when the 10.0 mt TAC for GB cod is projected to be reached.

A draft EA has been prepared that analyzes the impacts of the proposed experimental fishery on the human environment. This draft EA concludes that the activities proposed to be conducted under the requested EFPs are consistent with the goals and objectives of the FMP, would not be detrimental to the well-being of any stocks of fish harvested, and would have no significant environmental impacts. The draft EA also concludes that the proposed experimental fishery would not be detrimental to Essential Fish Habitat, marine mammals, or protected species.

EFPs would be issued to up to seven vessels exempting them from the CA I and NLSCA restrictions of the FMP.

NMFS is particularly interested in receiving comments about granting the applicant access to the portion of CA I located within the U.S./Canada Management Area due to the hard TACs established by Amendment 13 to the FMP for GB cod, haddock and yellowtail flounder.

Regulations under the Magnuson-Stevens Fishery Conservation and Management Act require publication of this notification to provide interested parties the opportunity to comment on applications for proposed EFPs.

Authority: 16 U.S.C. 1801 et seq.

Dated: July 15, 2004.
Alan D. Risenhoover,
Acting Director, Office of Sustainable Fisheries, National Marine Fisheries Service.

[FR Doc. E4-1610 Filed 7-20-04; 8:45 am]

BILLING CODE 3510-22-S